DEPARTMENT OF INTERIOR

Bureau of Land Management

[WY-930-1610-DR]

Notice of Availability of Record of Decision for the Kemmerer Resource Management Plan/Environmental Impact Statement

AGENCY: Bureau of Land Management, Interior.

ACTION: Notice of Availability.

SUMMARY: The Bureau of Land Management (BLM) announces the availability of the Record of Decision (ROD)/Approved Resource Management Plan (RMP) for the Kemmerer Field Office planning area located in Lincoln, Sweetwater, and Uinta counties, Wyoming. The Wyoming State Director signed the ROD on May 24, 2010, which constitutes the final decision of the BLM and makes the Approved RMP effective immediately.

ADDRESSES: Copies of the ROD/Approved RMP are available upon request from the Field Manager, Kemmerer Field Office, Bureau of Land Management, 312 Highway 189 North, Kemmerer, Wyoming 83101; from the Wyoming State Office, Bureau of Land Management, 5353 Yellowstone Road, Cheyenne, Wyoming 82003; or via the Internet at: http://www.blm.gov/rmp/kemmerer/docs.htm. Copies of the ROD/Approved RMP are available for public inspection at the addresses listed above.

FOR FURTHER INFORMATION CONTACT: For further information, contact John Christensen, Kemmerer Field Manager, or Michele Easley, Kemmerer Assistant Field Manager and RMP team leader, at the Kemmerer Field Office, 312 Highway 189 North, Kemmerer, Wyoming 83101; telephone at (307) 828-4500; or e-mail John_Christensen@blm.gov and Michelle_Easley@blm.gov, respectively.

SUPPLEMENTARY INFORMATION: The approved Kemmerer RMP was revised collaboratively with the State of Wyoming, county governments, other Federal agencies, and tribal governments. The Kemmerer RMP planning area includes approximately 1.4 million acres of BLM-administered public lands and 1.6 million acres of Federal mineral lands under Federal, state, and private surface ownership.

The Approved RMP establishes the goals, objectives, and management actions to meet desired resource conditions; identifies comprehensive management direction for all resources and uses; identifies lands that are open or available for certain uses along with associated surface restrictions; and identifies lands closed to certain uses. The Approved RMP makes broad-scale decisions to guide future site-specific project implementation for wind energy, fluid minerals, and coal resource development in the Kemmerer planning area. The agency preferred alternative (Alternative D, in the Proposed RMP/Final Environmental Impact Statement (EIS), with modifications) is the selected alternative for the Approved RMP.

After the publication of the Proposed RMP/Final EIS on August 22, 2008, the BLM received 10 protest letters. As a result of these protests, the BLM made modifications to the proposed plan that are reflected in the Approved RMP. The BLM eliminated Christy Canyon as a forage reserve allotment since a lack of available water and a short growing season preclude full-season emergency relief for livestock operations. The BLM also made other minor editorial modifications in preparing the Approved RMP. These modifications provided further clarification of some of the decisions.

In addition, the BLM received protests asserting that the public was not provided adequate opportunity to comment on expanded sage-grouse restrictions in the Proposed RMP/Final EIS. To resolve the issues raised in these protests, the Approved RMP adopts the sage-grouse restrictions originally presented in the Draft RMP/EIS (and reflected in the no action alternative in the Proposed RMP/Final EIS). The BLM Wyoming State Office, however, is also initiating the process to amend the Kemmerer, Casper, Pinedale, Rock Springs, Newcastle, and Rawlins RMPs. These RMP amendments will revise sage-grouse and sagebrush management direction to incorporate policies set forth in BLM Wyoming Instruction Memoranda (IM) WY-2010-012 and WY-2010-013. The IMs may be accessed at the following Web address: http://www.blm.gov/wy/st/en/programs.wildlife.html.

To ensure appropriate management of sage-grouse habitat during the amendment process (and associated NEPA analysis), the BLM will undertake the following actions:

1. The BLM will apply the direction provided in IM WY-2010-012 and IM WY-2010-013 to specific projects, as appropriate, on a case-by-case basis.

2. As the BLM considers implementing decisions governed by the Approved Kemmerer RMP, the BLM will coordinate with Federal, state, and local agencies to ensure that the policies established by the Governor of Wyoming's Executive Order on Sage-Grouse (E.O. 2008-2), including managing sage-grouse habitats in support of population objectives consistent with the Governor's Sage-Grouse Core Population Area strategy, are considered and implemented, as appropriate.

3. The BLM will apply expanded sage-grouse restrictions when supported by site-specific environmental analysis.

4. The BLM will make use of statewide sage-grouse seasonal habitat models and sagebrush mapping as they are developed.

5. The BLM will provide for additional sage-grouse protections through a statewide oil and gas lease stipulation—Lease Notice No.3: “Greater Sage-Grouse Habitat: The lease may in part, or in total, contain important Greater sage-grouse habitats as identified by the BLM, either currently or prospectively. The operator may be required to implement specific measures to reduce impacts of oil and gas operations on the Greater sage-grouse populations and habitat quality. Such measures shall be developed during the Application for Permit to Drill (APD) on-site and environmental review process and will be consistent with the lease rights granted.”

The Governor's consistency review of the Proposed RMP/Final EIS identified a concern which prompted the BLM to clarify the definition of surface-disturbing activity to maintain consistency with other BLM Wyoming Field Offices.

The decisions identifying designated routes of travel and closures for motorized vehicles are implementation decisions and are appealable under 43 CFR part 4. These decisions are contained in Table 1-1 of the Approved RMP. Any party adversely affected by the proposed route identifications may appeal within 30 days of publication of this Notice of Availability pursuant to 43 CFR, part 4, subpart E. The appeal should state the specific route(s), as identified in Table 1-1 of the Approved RMP, on which the decision is being appealed. The appeal must be filed with the Kemmerer Field Manager at the above listed address. Please consult the appropriate regulations (43 CFR, part 4, subpart E) for further appeal requirements.

Donald A. Simpson
State Director.

[FR Doc. 2010-12969 Filed 5-28-10; 8:45 am]

BILLING CODE 4310-22-P